ENVIRONMENTAL PROTECTION AGENCY

[ER-FRL-6610-8]

Environmental Impact Statements; Notice of Availability

Responsible Agency: Office of Federal Activities, General Information, (202) 564-7167 or www.epa.gov/oeca/ofa

Weekly receipt of Environmental Impact Statements Filed September 04, 2000 Through September 08, 2000 Pursuant to 40 CFR 1506.9.

EIS No. 000315, Draft EIS, TVA, TN, Future Water Supply Needs in the Upper Duck River Basin, NPDES Permit and COE Section 404 Permit, Bedford, Marshall, Maury and Williamson Counties, TN, Due: October 30, 2000, Contact: Linda B. Oxendine (865) 632-3440.

EIS No. 000316, Draft Supplement, BLM, NV, Betze-Post Project, Updated Information, Dewatering Operations and a Proposed Pipeline, Elko and Eureka Counties, NV, Due: November 14, 2000, Contact: Kirk Laird (775) 753-0272.

EIS No. 000317, Draft Supplement, COE, MS, Yazoo Basin Reformulation Study, Supplement No: 1 To the 1982 Yazoo Area Pump Project, Flood Control, Mississippi River and Tributaries, Yazoo Basin, MS and LA, Due: October 30, 2000, Contact: Gary Young (601) 631-5960.

EIS No. 000318, Draft EIS, AFS, ID, El Luky Duk Gold Suction Dredging, Proposal to Mine Gold, Plan-of-Operation, Implementation, Nez Perce National Forest, Red River Ranger District, ID, Due: October 30, 2000, Contact: Kevin Martin (208) 842-2245.

EIS No. 000319, Draft EIS, BOR, NM, Rio Granda and Low Flow Conveyance Channel Modification Channel System, From Rio Grande Valley between San Acacia Diversion Dam, NM and the Narrows of Elephant Butte Reservoir, NM, Due: November 07, 2000, Contact: Chris Gorbach (505) 348-5351.

EIS No. 000320, Draft EIS, AFS, AK, Chugach National Forest, Proposed Revised Land and Resource Management Plan, Implementation, Glacier, Seward and Cordora Ranger Districts, Kenai Peninsula Borough, AK, Due: October 30, 2000, Contact: Dave Gibbons (907) 271-2500.

Amended Notices

EIS No. 000286, Draft EIS, NPS, CA, Lassen Volcanic National Park General Management Plan, Implementation, Lassen, Plumas, Shasta and Tehama Counties, CA, Due: October 31, 2000, Contact: Alan Schmierer (415) 427-1441.

Published FR-8-25-00, Correction to agency from GSA to NPS.

Dated: September 12, 2000.
Ken Mittelholtz,
Environmental Protection Specialist, Office of Federal Activities.

[FR Doc. 00-23809 Filed 9-14-00; 8:45 am]

BILLING CODE 6560-50-P